DEPARTMENT OF COMMERCE

National Oceanic and Atmospheric Administration

[I.D. 071503E]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council), its Executive Committee, and its Demersal Species Committee meeting as a Council Committee of the Whole with the Atlantic States Marine Fisheries Commission's (ASMFC) Summer Flounder, Scup and Black Sea Bass Board, and Bluefish Board(s), will hold a public meeting.

DATES: The meetings will be held on Monday, August 4, to Thursday, August 7, 2002. See SUPPLEMENTARY INFORMATION for specific dates and times.

ADDRESSES: This meeting will be held at the Wyndham Baltimore Inner Harbor, 101 W. Fayette Street, Baltimore, MD; telephone: 410-752-1100.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: Monday, August 4, 2003, 1 p.m. - 3 p.m.-There will be a presentation by NMFS' Office of Sustainable Fisheries

Monday, August 4, 2003, 3 p.m. - 4 p.m.-The Executive Committee will meet. to review congressional correspondence and the status of Council's audits.

Tuesday, August 5, 2003, 8:30 a.m. - 9:30 a.m.-The Council will convene to discuss options concerning Atlantic Mackerel, Squid, and Butterfish Framework 4.

Tuesday, August 5, 2003, 9:30 a.m. - 11 a.m.-There will be a report of the 37th Stock Assessment Review Committee (SARC).

Tuesday, August 5, 2003, 11 a.m. to noon-The Council will discuss Summer, Founder, Scup, and Black Sea Bass Frameworks 3 and 4.

Tuesday, August 5, 2003, 1 p.m. to 4 p.m.-There will be a Council and Public Session on NMFS' Outreach Efforts.

Tuesday, August 5, 2003, 4 p.m. to 5:30 p.m.-The Council will meet jointly with the ASMFC's Bluefish Board regarding 2004 specifications for bluefish.

Tuesday, August 5, 2003 6 p.m. to 8 p.m.-There will be an additional Public Session on NMFS' Outreach Efforts.

Wednesday, August 6, 8:30 a.m. to 5 p.m.-The Council will meet jointly with the ASMFC's Summer Flounder, Scup, and Black Sea Bass Board regarding summer flounder, scup, and black sea bass specifications for 2004.

Thursday, August 7, 9 a.m. to 2 p.m.-Council will meet to receive reports from its committees.

Agenda items for the Council meeting are: On Monday, a presentation by NMFS' regarding Amendment 1 to NMFS' Highly Migratory Species (HMS) Fishery Management Plan (FMP) with particular emphasis on shark management. The Executive Committee will convene to review Congressman Gilchrest's July 8, 2003 letter regarding Individual Fishing Quotas (ITQ), and status of Council's audit (if available) for fiscal years1999, 2000, and 2001. On Tuesday, the Council will review and adopt Atlantic Mackerel, Squid, and Butterfish Framework 4 regarding extending the Illex squid moratorium; receive the 37th SARC report on spiny dogfish, surfclams, and Illex squid; review and adopt Summer Flounder, Scup, and Black Sea Bass Framework 3 regarding Winter 1 and Winter 2 rollover and April 15 summer period start date; review and adopt Summer Flounder, Scup, and Black Sea Bass Framework 4 regarding transfer of scup at sea. The Council will then receive a report from NMFS' on its Outreach Efforts regarding current NMFS' programs and the agency's future directions and strategies for same. The Council and ASMFC's Bluefish Board will review Monitoring Committee recommendations regarding the 2004 harvest level and commercial management measures, and recommend the 2004 harvest level and commercial management measures for bluefish. On Wednesday, the Council and ASMFC's Summer Flounder, Scup, Black Sea Bass Board(s) will review Monitoring Committee recommendations regarding the 2004 harvest level and commercial management measures, and recommend the 2004 harvest level and commercial management measures for summer flounder, scup, and black sea bass. The Council, on Thursday, will receive and discuss organizational and committee reports including tilefish actions, the New England Council's report, and the South Atlantic Council's report.

Although non-emergency issues not contained in this agenda may come before the Council and ASMFC for discussion, these issues can not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Joanna Davis at the Council (see ADDRESSES) at least 5 days prior to the meeting date.

Dated: July 15, 2003.
Richard W. Surdi,
Acting Director, Office of Sustainable Fisheries, National Marine Fisheries Service.

[FR Doc. 03-18489 Filed 7-18-03; 8:45 am]

BILLING CODE 3510-22-S